DEPARTMENT OF ENERGY

Federal Energy Regulatory Commission

[Project No. 14087-001]

Black Canyon Hydro, LLC; Notice of Successive Preliminary Permit Application Accepted for Filing and Soliciting Comments, Motions To Intervene, and Competing Applications

On July 1, 2014, Black Canyon Hydro, LLC filed an application for a successive preliminary permit, pursuant to section 4(f) of the Federal Power Act (FPA), proposing to study the feasibility of the Black Canyon Pumped Storage Project (project) to be located at the U.S. Bureau of Reclamation's Kortes and Seminoe Dams near Rawlins in Carbon County, Wyoming. The sole purpose of a preliminary permit, if issued, is to grant the permit holder priority to file a license application during the permit term. A preliminary permit does not authorize the permit holder to perform any land-disturbing activities or otherwise enter upon lands or waters owned by others without the owners' express permission.

The proposed project has five alternatives and would consist of the following:

East Reservoir-Kortes Alternative

(1) The existing Kortes Reservoir as the lower reservoir; (2) a new, 45-foot-high, 8,724-foot-long earthen or rockfill East Reservoir embankment; (3) a new artificial, lined East Reservoir with a storage capacity of 9,700-acre-foot; (4) a 3,800-foot-long, 18.7-foot-diameter concrete-lined pressure shaft; (5) a 200-foot-long, 22.4-foot-diameter concrete-lined tailrace; (6) a 280-foot-long, 70-foot-wide, 120-foot-high powerhouse; and (7) 0.75-mile-long, 230-kilovolt (kV) transmission line to an interconnection point to the Western Area Power Administration (WAPA) Miracle Mile-Cheyenne transmission line on the Seminoe Reservoir side of the project.

East Reservoir-Seminoe Alternative

(1) The existing Seminoe Reservoir as the lower reservoir; (2) a new, 45-foot-high, 8,724-foot-long earthen or rockfill East Reservoir embankment; (3) a new artificial, lined East Reservoir with a storage capacity of 9,700-acre-foot; (4) a 800-foot-long, 20.4-foot-diameter unlined or concrete-lined low-pressure tunnel; (5) a 5,800-foot-long, 20.4-foot-diameter concrete-lined pressure shaft; (6) a 200-foot-long, 24.5-foot-diameter concrete-lined tailrace; and (7) a 280-foot-long, 70 foot-wide, 120-foot-high powerhouse. The interconnection point to the WAPA Miracle Mile-Cheyenne line is adjacent to the powerhouse and a transmission line is not required.

North Reservoir-Kortes Alternative

(1) The existing Kortes Reservoir as the lower reservoir; (2) a new, 45-foot-high, 6,280-foot-long earthen or rockfill North Reservoir embankment; (3) a new artificial, lined North Reservoir with a storage capacity of 5,322-acre-foot; (4) a 1,400-foot-long, 18.7-foot-diameter unlined or concrete-lined low-pressure tunnel; (5) a 1,960-foot-long, 18.7-foot-diameter concrete-lined pressure tunnel; (6) a 560-foot-long, 22.4-foot-diameter concrete-lined tailrace; (7) a 250-foot-high, 60-foot-wide, 120-foot-high powerhouse; and (8) a 1-mile-long,230-kV transmission line to an interconnection point of the WAPA Miracle Mile-Cheyenne transmission line on the Seminoe Reservoir side of the project.

North Reservoir-Seminoe Alternative A

(1) The existing Seminoe Reservoir as the lower reservoir; (2) a new, 45-foot-high, 6,280-foot-long earthen or rockfill North Reservoir embankment; (3) a new artificial, lined North Reservoir with a storage capacity of 5,322-acre-foot; (4) a 1,400-foot-long, 20.4-foot-diameter unlined or concrete-lined low-pressure tunnel; (5) a 3,780-foot-long, 20.4-foot-diameter concrete-lined pressure tunnel; (6) a 1,307-foot-long, 24.5-foot-diameter concrete-lined tailrace; (7) an 250-foot-high, 60-foot-wide, 120-foot-high powerhouse; and (8) a 0.25-mile-long, 230-kV transmission line interconnecting with the WAPA Miracle Mile-Cheyenne line.

North Reservoir-Seminoe Alternative B

(1) The existing Seminoe Reservoir as the lower reservoir; (2) the new North Reservoir embankment and Reservoir also proposed in North Reservoir-Kortes Alternative (items 2 and 3 above); (3) a 1,400-foot-long, 20.4-foot-diameter unlined or concrete-lined low-pressure tunnel; (4) a 3,780-foot-long, 20.4-foot-diameter concrete-lined pressure tunnel; (5) a 1,307-foot-long, 24.5-foot-diameter concrete-lined tailrace; (6) an 250-foot-high, 60-foot-wide, 120-foot-high semi-surface powerhouse; and (7) a 0.35-mile-long, 230-kV transmission line interconnecting with the WAPA Miracle Mile-Cheyenne line.

The generating equipment for all of the alternatives will consist of three 166-megawatt (MW) adjustable-speed reversible pump-turbines with a total generating and pumping capacity of 500 MW. The estimated annual generation of the project would be 2,628 gigawatt-hours.

Applicant Contact: Mr. Matthew Shapiro, Black Canyon Hydro, LLC, 1210 W. Franklin Street, Suite 2, Boise, Idaho 83702; phone: (208) 246-9925.

FERC Contact: Kelly Wolcott; phone: (202) 502-6480.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14087-001.

More information about this project, including a copy of the application, can be viewed or printed on the “eLibrary” link of Commission's Web site at http://www.ferc.gov/docs-filing/elibrary.asp. Enter the docket number (P-14087) in the docket number field to access the document. For assistance, contact FERC Online Support.

Dated: August 26, 2014.
Kimberly D. Bose,
Secretary.

[FR Doc. 2014-21168 Filed 9-4-14; 8:45 am]

BILLING CODE 6717-01-P